DEPARTMENT OF COMMERCE

National Oceanic and Atmospheric Administration

Public Listening Session Regarding the Regulation and Implementing Practices of the Licensing of Private Remote Sensing Space Systems

AGENCY: National Oceanic and Atmospheric Administration (NOAA), Department of Commerce.

ACTION: Notice of public listening session.

SUMMARY: The Commercial Remote Sensing Regulatory Affairs (CRSRA) division of the National Oceanic and Atmospheric Administration's (NOAA's) Office of Space Commerce will hold a virtual listening session for the regulated community and the public to provide input on regulations regarding Licensing of Private Remote Sensing Space Systems, and implementing practices. During the session, the regulated community and the public may express their thoughts about any challenges or concerns experienced by the regulated community stakeholders in understanding or meeting the requirements of the regulations. Representatives from CRSRA will be present during the listening session and may ask clarifying questions, but will not discuss or address the merits of any comments provided.

DATES: The public listening session will be held on July 25, 2024, from 2:00 p.m. to 4:00 p.m. Eastern Time.

ADDRESSES: The session will be accessible via GoToWebinar!. Registration is required for all participants and can be found at: https://register.gotowebinar.com/register/6212511616942256213. Webinar access instructions will be provided by email following registration. For those wishing to make comments during the listening session, please indicate this preference on the registration form. Participants accessing the webinar are strongly encouraged to log/dial in at 15 minutes prior to the start time.

Written comments summarizing or elaborating upon spoken remarks may be submitted up to 14 days following the conclusion of this listening session. Comments may be submitted electronically via email to space.commerce@noaa.gov.

FOR FURTHER INFORMATION CONTACT: Sarah Brothers, Commercial Remote Sensing Regulatory Affairs, 1401 Constitution Ave. NW, Room 31027, Washington, DC 20230, sarah.brothers@noaa.gov, (771) 216-4112.

SUPPLEMENTARY INFORMATION: Licenses for the operation of private remote sensing space systems are issued by CRSRA pursuant to 51 U.S.C. 60101 et seq. (the Land Remote Sensing Policy Act of 1992). The implementing regulations are at 15 CFR part 960.

The regulations at 15 CFR part 960 were revised in its entirety in 2020, and the new regulations became effective on July 20, 2020. In the approximately four years since the effective date of the new regulations, CRSRA has identified elements of the regulations that, upon implementation, yielded unexpected consequences or high administrative burdens to both CRSRA and the licensee.

CRSRA has also observed trends in the private remote sensing sector that may warrant novel or creative regulatory approaches. For example, CRSRA observed that the Coronavirus Disease 2019 (COVID-19) pandemic, which was declared shortly prior to the release of 15 CFR part 960, accelerated existing trends pertaining to virtual and distributed private remote sensing system operations and the extensive use in system operations of cloud computing resources and infrastructure. Similarly, CRSRA is seeing an increasing number of applications for hosted payloads and, as these activities increase, anticipates unexpected complications will arise therefrom.

The upcoming listening session allows CRSRA to hear from the regulated community and the public regarding insights, challenges, concerns, and recommendations pertaining to the regulations and their implementation, including during pre-application consultation, application and license issuance, license sustainment (e.g., license modification and annual certification periods), and license transfer and termination.

For this listening session, we anticipate hearing from the regulated community and the public about the following topics:

• Challenges or concerns experienced by stakeholders in understanding or meeting the requirements of 15 CFR part 960, the conditions of the license, and the implementation practices followed between pre-application consultation and license transfer or termination;

• Recommendations for regulatory or implementation practice approaches or alternatives that could address any challenges or concerns, or that could continue to streamline 15 CFR part 960; and

• Recommendations to improve 15 CFR part 960 and its implementation to address existing or emerging business plans or models, concepts of operations, or system configurations, or other trends in the private remote sensing industry.

The public is reminded that CRSRA expects participants of the session to conduct themselves appropriately. At the beginning of the session, the moderator will explain how it will be conducted and how and when registered participants can provide spoken comments. CRSRA will structure the session so that all members of the public who have registered in advance and indicated a preference to speak during registration will be able to comment; it is anticipated that approximately 5 minutes will be allocated to each speaker for comments. Should requests to comment exceed the time allocated, an additional public listening session will be organized and notice provided. Participants are expected to respect the ground rules, and those that do not may be asked to leave.

Richard DalBello,
Director, Office of Space Commerce.

[FR Doc. 2024-15022 Filed 7-10-24; 8:45 am]

BILLING CODE 3511-43-P